DEPARTMENT OF JUSTICE

Antitrust Division

Notice Pursuant to the National Cooperative Research and Production Act of 1993—Technologies for Advanced Holographic Data Storage

Notice is hereby given that, on January 26, 2004, pursuant to section 6(a) of the National Cooperative Research and Production Act of 1993, 15 U.S.C. 4301 et seq. (“the Act”), Technologies for Advanced Holographic Data Storage has filed written notifications simultaneously with the Attorney General and the Federal Trade Commission disclosing (1) The identities of the parties and (2) the nature and objectives of the venture. The notifications were filed for the purpose of invoking the ACT's provisions limiting the recovery of antitrust plaintiffs to actual damages under specified circumstances. Pursuant to section 6(b) of the Act, the identities of the parties are InPhase Technologies, Longmont, CO; and Displaytech Incorporated, Longmont, CO. The nature and objectives of the venture are to carry out a project of certain research and development tasks described in a proposal to the Advanced Technology Program of the National Institute of Standards and Technology relating to holographic data storage. The participants intend to develop and demonstrate higher-density optical data recording techniques, write heads integrating optical elements that reduce needed recording media dynamic range, data processing and encoding techniques for reduced error rates and higher efficiencies, and optical servo mechanisms for relaxed mechanical alignment tolerances of system components. In the final task of the project, the participants plan to demonstrate the integration of the advanced holographic data recording and recovery technologies developed under the project.

Dorothy B. Fountain,
Deputy Director of Operations, Antitrust Division.

[FR Doc. 04-4845 Filed 3-3-04; 8:45 am]

BILLING CODE 4410-11-M